DEPARTMENT OF VETERANS AFFAIRS

Veterans and Community Oversight and Engagement Board, Notice of Meeting

The Department of Veterans Affairs (VA) gives notice under the Federal Advisory Committee Act (FACA), 5 U.S.C. app. 2, that the Veterans and Community Oversight and Engagement Board (the Board) will meet on June 21-22, 2022, at 11301 Wilshire Boulevard, Building 500, Room 1281, Los Angeles, CA. The meeting sessions will begin and end as follows:

Date(s) | Time(s)
June 21, 2022 | 8:30 a.m. to 5:30 p.m.—Pacific Standard Time (PST).
June 22, 2022 | 8:30 a.m. to 5:30 p.m.—PST.

Sessions are open to the public, except during the time the Board is conducting tours of VA facilities, participating in off-site events, and participating in workgroup sessions. Tours of VA facilities are closed, to protect Veterans' privacy and personal information, in accordance with 5 U.S.C. 552b(c)(6).

The Board was established by the West Los Angeles Leasing Act of 2016 on September 29, 2016. The purpose of the Board is to provide advice and make recommendations to the Secretary of Veterans Affairs on identifying the goals of the community and Veteran partnership; improving services and outcomes for Veterans, members of the Armed Forces, and the families of such Veterans and members; and on the implementation of the Draft Master Plan approved by the Secretary on January 28, 2016, and on the creation and implementation of any successor master plans.

On Tuesday, June 21, 2022, from 8:30 a.m. to 11:45 a.m. PST, the Board will meet in open session with key staff of the VA Greater Los Angeles Healthcare System (VAGLAHS). The Advisory Committee Management Office will present FACA 101 training. The agenda will include opening remarks from the Committee Chair, Executive Sponsor, and other VA officials. There will be a general update from the Director of the Veterans Administration Greater Los Angeles Healthcare System (VAGLAHS). From 12:30 p.m. to 5:00 p.m. PST, the Board will convene with a closed tour of the VA Greater Los Angles Healthcare System. Tours of VA facilities are closed to protect Veterans' privacy and personal information, in accordance with 5 U.S.C. 552b(c)(6).

On Wednesday, June 22, 2022, the Board will reconvene in open session at 11301 Wilshire Boulevard, Building 500, Room 1281, Los Angeles, CA, and receive a comprehensive presentation from the Community Engagement and Reintegration Services (CERS) team from VAGLAHS. The Office of Strategic, Facility & Master Planning, VAGLAHS will provide a Master Plan 2022 update, followed by a detailed Principal Developer update by the West Los Angeles Collective to include plans and vison for the Town Center. The Board will receive a briefing from the VA Office of Inspector General (OIG) on the results of the two OIG audit reports. Brentwood Schools and UCLA leaseholders have been invited to provide updates on their leases and contributions to date, for Veterans. The Board's subcommittees on Outreach and Community Engagement with Services and Outcomes, and Master Plan with Services and Outcomes will provide an out brief to the full Board and update on draft recommendations to be considered for forwarding to the Secretary.

Time will be allocated for receiving public comments on June 22, at 11:15 a.m. PST. Public Individuals wishing to make public comments should contact Chihung Szeto at (562) 708-9959 or at Chihung.Szeto@va.gov and are requested to submit a 1-2-page summary of their comments for inclusion in the official meeting record. In the interest of time, each speaker will be held to 5-minute time limit. The Board will accept written comments from interested parties on issues outlined in the meeting agenda, from June 22 through June 29, 2022.

Any member of the public seeking additional information should contact Mr. Eugene W. Skinner, Jr. at (202) 631-7645 or at Eugene.Skinner@va.gov.

Dated: May 22, 2022.
Jelessa M. Burney,
Federal Advisory Committee Management Officer.

[FR Doc. 2022-11297 Filed 5-25-22; 8:45 am]

BILLING CODE P